DEPARTMENT OF LABOR

Employment and Training Administration

[TA-W-64,894]

Georgia-Pacific Corporation, Green Bay, WI; Notice of Termination of Investigation

Pursuant to Section 221 of the Trade Act of 1974, as amended, an investigation was initiated on January 14, 2009 in response to a worker petition filed by a company official on behalf of workers of Georgia-Pacific Corporation, Green Bay, Wisconsin.

The petitioner has requested that the petition be withdrawn. Consequently, the investigation has been terminated.

Signed at Washington, DC, this 23rd day of January 2009.
Richard Church,
Certifying Officer, Division of Trade Adjustment Assistance.

[FR Doc. E9-2743 Filed 2-9-09; 8:45 am]

BILLING CODE 4510-FN-P